DEPARTMENT OF JUSTICE

Drug Enforcement Administration

Importer of Controlled Substances; Notice of Registration

By notice dated October 25, 2002, and published in the Federal Register on November 7, 2002, (67 FR 67869), Chattem Chemicals, Inc., 3801 St. Elmo Avenue, Building 18, Chattanooga, Tennessee 37409, made application by renewal to the Drug Enforcement Administration (DEA) to be registered as an importer of methamphetamine (1105), a basic class of controlled substance list in Schedule II.

The firm plans to import the listed controlled substance to bulk manufacture controlled substances.

No comments or objections have been received regarding this controlled substance. DEA has considered the factors in Title 21, United States Code, section 823(a) and determined that the registration of Chattem Chemicals, Inc., is consistent with the public interest and with United States obligations under international treaties, conventions, or protocols in effect on May 1, 1971, at this time. DEA has investigated Chattem Chemicals, Inc. on a regular basis to ensure the company's continued registration is consistent with the public interest. The investigation included inspection and testing of the company's physical security system, audit of the company's records, verification of the company's compliance with state and local laws, and a review of the company's background and history.

Therefore, pursuant to section 1008(a) of the Controlled Substances Import and Export Act and in accordance with Title 21 Code of Federal Regulations, § 1301.34, the above firm is granted registration as an importer of the basic class of controlled substance listed above.

Dated: February 28, 2003.
Laura M. Nagel,
Deputy Assistant Administrator, Office of Diversion Control, Drug Enforcement Administration.

[FR Doc. 03-6066 Filed 3-12-03; 8:45 am]

BILLING CODE 4410-09-M